DEPARTMENT OF COMMERCE

National Oceanic and Atmospheric Administration

RIN 0648-XE104

Western Pacific Fishery Management Council; Public Meetings

AGENCY: National Marine Fisheries Service (NMFS), National Oceanic and Atmospheric Administration (NOAA), Commerce.

ACTION: Notice of a public meeting.

SUMMARY: The Western Pacific Fishery Management Council (Council) will convene a meeting of Habitat Areas of Particular Concern (HAPC) Working Group comprised of Fishery Ecosystem Plan Team members. The working group will plan for producing a report exploring options in developing an HAPC designation process for the Western Pacific region.

DATES: The working group will meet on September 2, 2015. For specific times and agendas, see SUPPLEMENTARY INFORMATION.

ADDRESSES: The HAPC working group meeting will be held at the Council office, 1164 Bishop Street, Suite 1400, Honolulu, HI 96813; telephone: (808) 522-8220. WebEx and teleconference facilities will be provided for the meeting. The teleconference numbers are: U.S. toll-free: 1-888-482-3560 or International Access: +1-647-723-3959, and Access Code: 5228220; The Web conference can be accessed at https://wprfmc.webex.com/join/info.wpcouncilnoaa.gov.

FOR FURTHER INFORMATION CONTACT: Kitty M. Simonds, Executive Director; telephone: (808) 522-8220.

SUPPLEMENTARY INFORMATION: HAPC working group members will explore different process options for designating Habitat Areas of Particular Concern in the Western Pacific Region. The purpose of this meeting is to identify which process options to evaluate in a report to the Council's Fishery Ecosystem Plan Team. A public comment period will be provided. The order in which agenda items are addressed may change. The meetings will run as late as necessary to complete scheduled business.

Schedule and Agenda for the HAPC Working Group Meeting

September 2, 2015—1 p.m.-4 p.m.

1. Introductions

2. Purpose of meeting

3. Overview of Essential Fish Habitat and Habitat Areas of Particular Concern

4. Options From Other Regions

5. Consideration of Additional Options

6. Public Comment

7. Deliberation on Options to Evaluate

8. Other Business

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 12, 2015.
Tracey L. Thompson,
Acting Deputy Director, Office of Sustainable Fisheries, National Marine Fisheries Service.

[FR Doc. 2015-20203 Filed 8-14-15; 8:45 am]

BILLING CODE 3510-22-P